DEPARTMENT OF ENERGY

Federal Energy Regulatory Commission

[Docket No. RP04-12-003]

Florida Gas Transmission Company; Notice of Motion To Place Suspended Rates and Tariff Sheets Into Effect

April 2, 2004.

Take notice that on March 31, 2004, Florida Gas Transmission Company (FGT) tendered for filing to become part of its FERC Gas Tariff, Third Revised Volume No. 1, the following tariff sheets, effective April 1, 2004:

Substitute Sixty-Second Revised Sheet No. 8A

Substitute Fifty-Fourth Revised Sheet No. 8A.01

Substitute Fifty-Fourth Revised Sheet No. 8A.02

Substitute Second Revised Sheet No. 8A.03

Substitute Fifty-Seventh Revised Sheet No. 8B

Substitute Fiftieth Revised Sheet No. 8B.01

Substitute Seventh Revised Sheet No. 8B.02

FGT states that pursuant to section 4(e) of the Natural Gas Act and sections 154.7, 154.201, et seq., and 154.301, et seq., of the Commission's Regulations; Article XV of the Settlement in Docket No. RP96-366-000, et al., approved at 80 FERC ¶61,349 (1997); and Article IV(E) of the Settlement in Docket Nos. CP99-94 and RP96-366, approved at 88 FERC ¶61,142 (1999), FGT made a filing on October 1, 2003 (October 1 Filing), to effectuate increases in rates and changes in the terms and conditions applicable to FGT's jurisdictional services.

FGT states that it requested that such increases and changes be made effective November 1, 2003. FGT explains that, in the Suspension Order, the Commission: (1) Accepted and suspended certain tariff sheets to be effective April 1, 2004, subject to refund and the outcome of hearing procedures; (2) established a technical conference to address certain tariff proposals; and (3) accepted certain tariff sheets to be effective November 1, 2003, subject to condition.

FGT further states that pursuant to the Suspension Order and section 154.206(a) of the Commission's Regulations, FGT is making the instant filing to move into effect the rates and tariff sheets listed in Appendix A, as modified to reflect the elimination of costs of facilities not in service by February 29, 2004.

Any person desiring to protest said filing should file a protest with the Federal Energy Regulatory Commission, 888 First Street, NE., Washington, DC 20426, in accordance with section 385.211 of the Commission's rules and regulations. All such protests must be filed on or before the protest date as shown below. Protests will be considered by the Commission in determining the appropriate action to be taken, but will not serve to make protestants parties to the proceedings. This filing is available for review at the Commission in the Public Reference Room or may be viewed on the Commission's Web site at http://www.ferc.gov using the eLibrary. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Protest Date: April 9, 2004.

Magalie R. Salas,
Secretary.

[FR Doc. E4-792 Filed 4-8-04; 8:45 am]

BILLING CODE 6717-01-P